DEPARTMENT OF THE INTERIOR

Bureau of Land Management

[AA-6693-E, AA-6693-G, AA-6693-H; AK-964-1410-KC-P]

Alaska Native Claims Selection

AGENCY: Bureau of Land Management, Interior.

ACTION: Notice of Decision Approving Lands for Conveyance.

SUMMARY: As required by 43 CFR 2650.7(d), notice is hereby given that an appealable decision approving lands for conveyance pursuant to the Alaska Native Claims Settlement Act will be issued to Alaska Peninsula Corporation, Successor-in-Interest to Meshik Incorporated. The lands are in the vicinity of Port Heiden, Alaska, and are located in:

Lot 4, U.S. Survey No. 9398, Alaska

Containing 1.71 acres.

Seward Meridian, Alaska

T. 38 S., R. 58 W.,

Secs. 4 and 5;

Secs. 7, 8, and 9.

Containing approximately 3,163 acres.

T. 37 S., R. 59 W.,

Secs. 1, 2, and 3;

Secs. 11, 12, and 13.

Containing approximately 3,874 acres.

Aggregating approximately 7,037 acres.

Total aggregate is approximately 7,039 acres.

The subsurface estate in these lands will be conveyed to Bristol Bay Native Corporation when the surface estate is conveyed to Alaska Peninsula Corporation, Successor-in-Interest to Meshik Incorporated. Notice of the decision will also be published four times in the Bristol Bay Times.

DATES: The time limits for filing an appeal are:

1. Any party claiming a property interest which is adversely affected by the decision shall have until April 14, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at: ak.blm.conveyance@ak.blm.gov. Persons who use a telecommunication device (TTD) may call the Federal Information Relay Service (FIRS) at 1-800-877-8330, 24 hours a day, seven days a week, to contact the Bureau of Land Management.

Michael Bilancione,
Land Transfer Resolution Specialist, Land Transfer Adjudication I.

[FR Doc. E8-5138 Filed 3-13-08; 8:45 am]

BILLING CODE 4310-$$-P